DEPARTMENT OF THE TREASURY

Internal Revenue Service

Proposed Collection; Comment Request for Mortgage Interest Statement

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995. Currently, the IRS is soliciting comments concerning Mortgage Interest Statement.

DATES: Written comments should be received on or before June 26, 2017 to be assured of consideration.

ADDRESSES: Direct all written comments to Laurie E. Brimmer, Internal Revenue Service, Room 6526, 1111 Constitution Avenue NW., Washington, DC 20224. Requests for additional information or copies of the form and instructions should be directed to Martha R. Brinson, Internal Revenue Service, Room 6526, 1111 Constitution Avenue NW., Washington, DC 20224, or through the Internet at Martha.R.Brinson@irs.gov.

SUPPLEMENTARY INFORMATION:

Title: Mortgage Interest Statement.

OMB Number: 1545-0901.

Form Number: Form 1098.

Abstract: Form 1098 is used to report $600 or more of mortgage interest received from an individual in the course of the mortgagor's trade or business.

Current Actions.

Box 2 was added to report “Outstanding mortgage principal”.

Box 3 was added to report “Mortgage origination date”.

We added new text in box 7 reflecting that if the box is checked, this is the same address as the property securing the mortgage and that this is the same address as the Payer/Borrower.

Box 8 was added to report the “Address of property securing mortgage”.

Box 9 was added for “reporting the description of a property” without a street address. Reporting requirement will be addressed in the separate Instructions for Form 1098,

Box 10 was added to report the “Number of mortgaged properties”, if more than 1 address on this form and box 11 for “Other”.

This form is also being submitted for renewal purposes only.

Type of Review: Revision of a currently approved collection.

Affected Public: Businesses or other for profits.

Estimated Number of Annual Responses: 81,132,333.

Estimated Time Per Response: 13 minutes.

Estimated Total Annual Burden Hours: 17,849,114.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: April 24, 2017.
Laurie E. Brimmer,
Senior Tax Analyst.

[FR Doc. 2017-08517 Filed 4-26-17; 8:45 am]

BILLING CODE 4830-01-P